DEPARTMENT OF THE INTERIOR

Bureau of Safety and Environmental Enforcement

[Docket ID BSEE-2015-0009; OMB Control Number 1014-0007; 15XE1700DX EEEE500000 EX1SF0000.DAQ000]

Information Collection Activities: Oil-Spill Response Requirements for Facilities Located Seaward of the Coast Line; Proposed Collection; Comment Request

ACTION: 60-day notice.

SUMMARY: To comply with the Paperwork Reduction Act of 1995 (PRA), BSEE is inviting comments on a collection of information that we will submit to the Office of Management and Budget (OMB) for review and approval. The information collection request (ICR) concerns a renewal to the paperwork requirements in the regulations under Oil-Spill Response Requirements for Facilities Located Seaward of the Coast Line.

DATES: You must submit comments by July 28, 2015.

ADDRESSES: You may submit comments by either of the following methods listed below.

• Electronically go to http://www.regulations.gov. In the Search box, enter BSEE-2015-0009 then click search. Follow the instructions to submit public comments and view all related materials. We will post all comments.

• Email cheryl.blundon@bsee.gov. Mail or hand-carry comments to the Department of the Interior; Bureau of Safety and Environmental Enforcement; Regulations and Standards Branch; ATTN: Cheryl Blundon; 45600 Woodland Road, Sterling, VA 20166. Please reference ICR 1014-0007 in your comment and include your name and return address.

FOR FURTHER INFORMATION CONTACT: Cheryl Blundon, Regulations and Standards Branch at (703) 787-1607 to request additional information about this ICR.

SUPPLEMENTARY INFORMATION: Title: 30 CFR part 254, Oil-Spill Response Requirements for Facilities Located Seaward of the Coast Line.

OMB Control Number: 1014-0007.

Abstract: Section 2(b)(3) of E.O. 12777 delegated to the Secretary of the Interior (Secretary) those responsibilities under section 311(j)(1)(C) of the Federal Water Pollution Control Act (FWPCA) (October 18, 1991; 56 FR 54757), requiring the Secretary to establish procedures, methods, and requirements for equipment to prevent and contain discharges of oil and hazardous substances from offshore facilities, including associated pipelines. Under section 2(d)(3) of E.O. 12777, section 311(j)(5) of FWPCA, and section 4202(b)(4) of OPA, the Secretary is required to issue regulations requiring the owners or operators of offshore facilities, including associated pipelines, to prepare and submit response plans that ensure the availability of private spill-response personnel and equipment and to permit the operation of offshore facilities, including associated pipelines, without approved response plans if certain conditions are met. Under section 2(e)(3) of E.O. 12777 and section 311(j)(6)(A) of FWPCA, the Secretary must require periodic inspections of containment booms and equipment used to remove discharges at offshore facilities, including associated pipelines. The Secretary has redelegated these responsibilities to the Director, BSEE.

The FWPCA, as amended by the Oil Pollution Act of 1990 (OPA), requires that a spill-response plan be submitted for offshore facilities prior to February 18, 1993. The OPA specifies that after that date, an offshore facility may not handle, store, or transport oil unless a plan has been submitted. Regulations at 30 CFR 254 establish requirements for spill-response plans for oil-handling facilities seaward of the coast line, including associated pipelines.

To provide supplementary guidance and procedures, BSEE issues Notices to Lessees and Operators (NTLs) on a regional or National basis. Regulation 30 CFR 250.103 allows BSEE to issue NTLs to clarify, supplement, or provide more detail about certain requirements. Additional guidance pertaining to Oil-Spill Response Requirements is provided by NTLs when needed.

Regulations implementing these responsibilities are among those delegated to BSEE. The regulations under 30 CFR 254 pertain to preparation and submittal of response plans that ensure the availability of private-spill response personnel and equipment.

We use the information collected under 30 CFR 254 to determine compliance with OPA by lessees/operators. Specifically, BSEE needs the information to:

• Determine that lessees/operators have an adequate plan and are sufficiently prepared to implement a quick and effective response to a discharge of oil from their facilities or operations.

• Review plans prepared under the regulations of a State and submitted to BSEE to satisfy the requirements in 30 CFR 254 to ensure that they meet minimum requirements of OPA.

• Verify that personnel involved in oil-spill response are properly trained and familiar with the requirements of the spill-response plans and to lead and witness spill-response exercises.

• Assess the sufficiency and availability of contractor equipment and materials.

• Verify that sufficient quantities of equipment are available and in working order.

• Oversee spill-response efforts and maintain official records of pollution events.

• Assess the efforts of lessees/operators to prevent oil spills or prevent substantial threats of such discharges.

No questions of a sensitive nature are asked. Generally, no proprietary information is collected under 30 CFR 254. However, if respondents did submit proprietary information, we protect such information under the Freedom of Information Act (5 U.S.C. 552) and DOI's implementing regulations (43 CFR 2), 30 CFR 250.197, “Data and information to be made available to the public,” and 30 CFR 252, “Outer Continental Shelf (OCS) Oil and Gas Information Program.” Responses are mandatory.

Frequency: The frequencies of responses are on occasion, monthly, annually, and biennially and as a result of situations encountered depending upon the requirements.

Description of Respondents: Potential respondents comprise Federal oil, gas, or sulphur lessees and/or operators.

Estimated Reporting and Recordkeeping Hour Burden: The currently approved annual reporting burden for this collection is 60,198 hours. In this submission, we are requested a total of 74,461 burden hours. The following chart details the individual components and respective hour burden estimates of this ICR. In calculating the burdens, we assumed that respondents perform certain requirements in the normal course of their activities. We consider these to be usual and customary and took that into account in estimating the burden.

CITATION 30 CFR 254 and NTLs | Reporting requirement | Hour burden | Average number of annual responses | Annual burden hours (rounded)
Subpart A—General
1(a) thru (d); 2(a); 3 thru 5; 7; 20 thru 29; 44(b); 47(a)(3); 51 | Submit spill response plan for OCS facilities and related documents/copies of referenced documents; any additional information necessary for compliance purposes | 192.8 | 18 new plans | 3,470
1(e) | Request BSEE jurisdiction over facility landward of coast line (no recent request received) | 0.4 | 2 requests | 1
2(b) | Submit certification of capability to respond to worst case discharge or substantial threat of such | 15.8 | 18 certification | 284
2(c) | Request deadline extension for submission of revised plan | 2 | 8 extensions | 16
8 | Appeal BSEE orders or decisions per 30 CFR Part 290 | Exempt under 5 CFR 1320.4(a)(2), (c). |  | 0
Subtotal | 46 responses | 3,771 hours
Subpart B—Oil-Spill Response Plans for Outer Continental Shelf Facilities
Subpart B 52 | Requirements for your oil-spill response plans | Burden included with specific requirements under subparts A and D. |  | 0
30 | Submit and/or resubmit revised spill response plan for OCS facilities at least every 2 years or within 15 days whenever certain changes occur (see (b)(1-4) or (see (e)(1-3)) | 62 | 159 revised plans | 9,858
30 | Notify BSEE of no change to your plan | 1 | 1 plan | 1
Subtotal | 160 responses | 9,859
Subpart C—Related Requirements for OCS Facilities
40 | Make records of all OSRO-provided services, equipment, personnel available to BSEE | 7 | 40 records | 280
41 | Conduct annual training; retain training records for 2 years | 149 | 138 plans holders/operators | 20,562
42(a) thru (e) | Conduct triennial response plan exercise; retain exercise records for 3 years | 215 | 138 exercises | 29,670
42(f) | Inform BSEE 30 days before the date of any exercise (triennial) | 1.3 | 138 notifications | 179
43 | Inspect response equipment monthly; retain inspection & maintenance records for 2 years | 10.5 | 780 (65 sites × 12 months) | 8,190
44(b) | Request approval to use a different efficiency factor for specific oil recovery devices; submit evidence to demonstrate the request | 1.5 | 1 request | 2
46(a) NTL | Notify NRC of all oil spills from owner/operator facility. | Burden would be included in the NRC inventory. |  | 0
46(b) NTL(s) | Notify BSEE of oil spills of one barrel or more from owner/operator facility; submit follow-up report; after catastrophic event may be requested to meet w/BSEE to discuss storm recovery strategies/pollution | 2 | 6 notifications & reports | 12
46(c) | Notify BSEE & responsible party of oil spills from operations at another facility | 1.8 | 24 notifications | 43
47(d) | Request instructions on how to calculate volume of WDC scenario if not listed in § 203. 47(a-c) | 0.9 | 1 request | 1
Subtotal | 1,266 responses | 58,939 hours
Subpart D—Oil Spill Response Requirements for Facilities Located in State Waters Seaward of the Coast Line
50; 52 | Submit response plan for facility in State waters following format for OCS plan | 46.3 | 13 plans | 602
50; 51; 52 | Submit response plan for facility in State waters by modifying existing OCS plan | 14.3 | 50 plans | 715
50; 53; | Submit response plan for facility in State waters developed under State requirements including all information as required in these sections | 40 | 8 plans | 320
54 | Submit description of oil-spill prevention procedures and demonstrate compliance; include any industry safety and pollution prevention standards your facility meets | 3.8 | 67 submissions | 255
Subtotal | 138 responses | 1,892 hours
Total Hour Burden | 1,610 Responses | 74,461 Hours

Estimated Reporting and Recordkeeping Non-Hour Cost Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Dated: May 20, 2015.
Robert Middleton,
Deputy Chief, Office of Offshore Regulatory Programs.

[FR Doc. 2015-13003 Filed 5-28-15; 8:45 am]

BILLING CODE 4310-VH-P